NATIONAL SCIENCE FOUNDATION

Agency Information Collection Activities: Proposed Collection; Comment Request

AGENCY: National Science Foundation.

ACTION: Submission for OMB review; comment request.

SUMMARY: Under the Paperwork Reduction Act of 1995, Pub. L. 104-13 (44 U.S.C. 3501 et seq.), and as part of its continuing effort to reduce paperwork and respondent burden, the National Science Foundation (NSF) is inviting the general public and other Federal agencies to comment on this proposed continuing information collection. This is the second notice for public comment; the first was published in the Federal Register at 67 FR 16454 and no comments were received. NSF is forwarding the proposed submission to the Office of Management and Budget (OMB) for clearance simultaneously with the publication of this second notice.

DATES: Comments regarding these information collections are best assured of having their full effect if received by OMB within 30 days of publication in the Federal Register.

ADDRESSES: Written comments regarding (a) Whether the collection of information is necessary for the proper performance of the functions of NSF, including whether the information will have practical utility; (b) the accuracy of NSF's estimate of burden including the validity of the methodology and assumptions used; (c) ways to enhance the quality, utility and clarity of the information to be collected; or (d) ways to minimize the burden of the collection of information on those who are to respond, including through the use of appropriate automated, electronic,, mechanical, or other technological collection techniques or other forms of information technology should be addressed to: Office of Information and Regulatory Affairs of OMB, Attention: Desk Officer for National Science Foundation, 725 17th Street, NW., Room 10235, Washington, DC 20503, and to Suzanne H. Plimpton, Reports Clearance Officer, National Science Foundation, 4201 Wilson Boulevard, Suite 295, Arlington, Virginia 22230 or send e-mail to splimpto@nsf.gov. Copies of the submission may be obtained by calling (703) 292-7556.

FOR FURTHER INFORMATION CONTACT: Suzanne H. Plimpton, NSF Reports Clearance Officer at (703) 292-7556 or send e-mail to splimpto@nsf.gov.

An agency may not conduct or sponsor a collection of information unless the collection of information displays a currently valid OMB control number and the agency informs potential persons who are to respond to the collection of information that such persons are not required to respond to the collection of information unless it displays a currently valid OMB control number.

SUPPLEMENTARY INFORMATION: Title of Collection: Quantitative Evaluation for the National Science Foundation's Centers for Learning and Teaching.

OMB Control No.: 3145-(new).

1. Abstract: This document has been prepared to support the clearance of data collection instruments to be used in the evaluation of the National Science Foundations's (NSF) Centers for Learning and Teaching (CLT). The CLT program calls for a systematic approach to the development and enhancement of the instructional workforce (kindergarten through graduate school) where professionals are educated in an environment of research and practice. For science, technology, engineering and mathematics (STEM) educators, a Center will provide opportunities to enhance content knowledge, develop teaching strategies that lead to improved student learning, facilitate the implementation of high quality instructional materials and information technology, and develop skills in using various strategies for assessing student learning. For graduate students, post-doctoral students, and interns, a Center will provide study and research opportunities with the goal of improving learning, teaching, and assessment across the educational continuum.

CLT centers are funded as Elementary, Secondary, and Informal Education (ESIE) Centers, or Higher Education Centers. The goals of the ESIE Centers include (1) Increasing the numbers of K-12 STEM educators in both formal and informal settings who have current content knowledge, implement standards-based instruction, and use information technology as an aid to learning; (2) rebuilding and diversifying the human resource base that forms the national infrastructure for STEM, including basic and advanced education for graduate and post-doctoral students who will specialize in STEM education; and (3) providing substantive opportunities for research into the nature of learning, teaching, and educational reform. The goals of the Higher Education Centers address (1) Increasing the numbers of STEM faculty who implement effective teaching practice and assessment; (2) providing professional development for graduate and post-doctoral student in STEM disciplines to develop their skills as educators and to develop graduate programs in STEM education in disciplinary departments; and (3) providing substantive opportunities for research into the nature of learning, teaching, and educational reform in higher education.

This study addresses the following research questions: In what ways and to what extent are CLTs reflecting the models proposed? To what extent are the CLT centers meeting the goals of the CLT program? What is the value-added of creating CLTs for the achievement of the desired educational outcomes? To what extent does the portfolio of CLT activities appropriately meet national STEM ecuation needs?

The data to address these questions will be gathered via surveys of the following groups: CLT faculty; CLT graduate students; CLT postdoctoral participants: CLT project directors; representatives of IHE partners; and participating K-12 teachers. All the surveys will be sample surveys with the exception of the project director survey, which will be the population. The evaluation surveys will build on the annual data collected from projects for the purpose of GPRA.

In addition to the surveys, a number of small site-specific studies will be conducted to examine the outcomes of various Center activities (e.g., new teacher preparation programs, new courses and curricula, professional development for faculty and K-12 teachers). Meta analysis techniques will be employed to calculate effect sizes across similar studies.

2. Expected Respondents: The expected respondents are: CLT faculty; CLT graduate students; CLT postdoctoral participants: CLT project directors; representatives of IHE partners; and participating K-12 teachers.

3. Burden on the Public: The total estimate for this collection is 237.5 burden hours for a maximum of 360 participants assuming a 100% response rate. The burden on the public is negligible; the study is limited to project participants that have received funding from the NSF CLT program.

Dated: February 20, 2003.
Suzanne H. Plimpton,
Reports Clearance Officer, National Science Foundation.

[FR Doc. 03-4453 Filed 2-25-03; 8:45 am]

BILLING CODE 7555-01-M